DEPARTMENT OF THE TREASURY

Submission for OMB Review; Comment Request

April 1, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 10, 2002 to be assured of consideration.

Departmental Offices/Office of DC Pensions

OMB Number: New.

Form Number: None.

Type of Review: New collection.

Title: The DC Pensions Plans Satisfaction Survey.

Description: Under the National Capital Revitalization and Self Government Act of 1997, Treasury's Office of DC Pensions assumed responsibility for paying the benefits under the Police Officers and Fire Fighters Retirement Plan and Teachers Retirement Plan (earned through June 1997) and for the Judges Retirement Plan. The Office of DC Pensions seeks to collect information from pension benefit recipients in order to establish a customer service baseline and for use in developing a customer service plan. The survey also will be used to gauge improvements in customer service.

Respondents: Individuals or households.

Estimated Number of Respondents: 2,157.

Estimated Burden Hours Per Respondent: 15 minutes.

Frequency of Response: On occasion.

Estimated Total Reporting Burden: 539 hours.

Clearance Officer: Lois K. Holland, (202) 622-1563, Departmental Offices, Room 2110, 1425 New York Avenue, NW, Washington, DC 20220.

OMB Reviewer: Alexander T. Hunt, (202) 395-7860, Office of Management and Budget, Room 10202, New Executive Office Building, Washington, DC 20503.

Lois K. Holland,
Departmental Reports, Management Officer.

[FR Doc. 02-8598 Filed 4-9-02; 8:45 am]

BILLING CODE 4811-16-P